DEPARTMENT OF HEALTH AND HUMAN SERVICES

Health Resources and Services Administration

Agency Information Collection Activities: Proposed Collection: Public Comment Request; Information Collection Request Title: The Division of Independent Review Application Reviewer Recruitment Form, OMB No. 0915-0295—Revision

AGENCY: Health Resources and Services Administration (HRSA), Department of Health and Human Services.

ACTION: Notice.

SUMMARY: In compliance with the requirement for opportunity for public comment on proposed data collection projects of the Paperwork Reduction Act of 1995, HRSA announces plans to submit an Information Collection Request (ICR), described below, to the Office of Management and Budget (OMB). Prior to submitting the ICR to OMB, HRSA seeks comments from the public regarding the burden estimate, below, or any other aspect of the ICR.

DATES: Comments on this ICR should be received no later than March 30, 2026.

ADDRESSES: Submit your comments to paperwork@hrsa.gov or mail the HRSA Information Collection Clearance Officer, Room 13N82, 5600 Fishers Lane, Rockville, Maryland 20857.

FOR FURTHER INFORMATION CONTACT: To request more information on the proposed project or to obtain a copy of the data collection plans and draft instruments, email paperwork@hrsa.gov or call Samantha Miller, the HRSA Information Collection Clearance Officer, at (301) 443-3983.

SUPPLEMENTARY INFORMATION: When submitting comments or requesting information, please include the ICR title for reference.

Information Collection Request Title: The Division of Independent Review Application Reviewer Recruitment Form, OMB No. 0915-0295—Revision.

Abstract: HRSA's Division of Independent Review (DIR) is responsible for administering the review of eligible applications submitted for grants under HRSA competitive announcements. DIR ensures that the objective review process is independent, efficient, effective, economical, and complies with the applicable statutes, regulations, and policies. Applications are reviewed by subject matter experts knowledgeable in health and public health disciplines for which support is requested. Review findings are advisory to HRSA programs responsible for making award decisions.

This ICR is for continued approval of a web-based data collection system, the Reviewer Recruitment Module (RRM), used to gather critical reviewer information. RRM uses standardized categories of information in drop down menu format for data such as the following: degree, specialty, occupation, work setting, and in select instances affiliations with organizations and institutions that serve special populations. Some program regulations require that objective review panels contain consumers of health services. Other demographic data may be voluntarily provided by a potential reviewer. Defined data elements assist HRSA in finding and selecting expert reviewers for objective review committees.

HRSA maintains a roster of approximately 9,000 qualified individuals who have actively served on HRSA objective review committees. The web-based RRM simplifies reviewer registration entry using a user-friendly Graphical User Interface with a few data drop down menu choices, a search engine that supports key word queries in the actual resume or Curriculum Vitae text, and permits reviewers to access and update their information at will and as needed. RRM is 508 compliant and accessible by the general public via a link on the HRSA “Grants” internet site, or by keying the RRM URL into their browser. RRM is accessible using any of the commonly used internet browsers.

The only change to the collection is updating two questions about reviewer attributes (i.e., past/current affiliation or characteristics, and demographic information) for compliance with administration priorities.

Need and Proposed Use of the Information: HRSA currently uses RRM to collect information from individuals who wish to volunteer as objective review committee participants for the agency's discretionary and competitive grant or cooperative agreement funding opportunities. RRM provides HRSA with an effective search and communication functionality with which to identify and contact qualified potential reviewers. RRM has an enhanced search and reporting capability to help DIR ensure that the HRSA reviewer pool has the necessary skills, education, and qualifications to meet the ever-evolving need for qualified reviewers. If HRSA identifies either an expertise or demographic that is under-represented in the RRM pool, HRSA can recruit specifically to address those needs. Expertise is always the primary determinant in selecting potential reviewers for any specific grant review; no reviewer is required to provide demographic information to join the reviewer pool or be selected as a reviewer for any competition.

Likely Respondents: All HRSA reviewers must possess the technical skill and ability to access the internet on a secure desktop/laptop, or touch pad, and either a land line or Voice Over internet Protocol capability to participate in HRSA objective review committees. Reviewers are professionals with expertise and experience consistent with the HRSA mission. Certain legislation requires HRSA programs to include consumers of specific health care services in the objective review committee.

Burden Statement: Burden in this context means the time expended by persons to generate, maintain, retain, disclose, or provide the information requested. This includes the time needed to review instructions; to develop, acquire, install, and utilize technology and systems for the purpose of collecting, validating, and verifying information, processing and maintaining information, and disclosing and providing information; to train personnel and to be able to respond to a collection of information; to search data sources; to complete and review the collection of information; and to transmit or otherwise disclose the information. The total annual burden hours estimated for this ICR are summarized in the table below.

Total Estimated Annualized Burden Hours
| Number of respondents | Number of responses per respondent | Total responses | Average burden per response (in hours) | Total burden hours
New reviewer | 700 | 1 | 700 | 0.333 | 233
Updating reviewer information | 9,000 | 1 | 9,000 | 0.166 | 1,494
Total | 9,700 |  | 9,700 |  | 1,727

HRSA specifically requests comments on: (1) the necessity and utility of the proposed information collection for the proper performance of the agency's functions; (2) the accuracy of the estimated burden; (3) ways to enhance the quality, utility, and clarity of the information to be collected; and (4) the use of automated collection techniques or other forms of information technology to minimize the information collection burden.

Maria G. Button,
Director, Executive Secretariat.

[FR Doc. 2026-01755 Filed 1-28-26; 8:45 am]

BILLING CODE 4165-15-P